DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of July, 2001.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,833; O & E Machine, A Div. of paper Converting Machine Co., Green Bay, WI.

TA-W-39,112; DuCoa L.P., Verona, MO

TA-W-39,019; Opelika Foundry Co., Opelika, AL

TA-W-39,100; Paper Converting Machine Co., Green Bay, WI

TA-W-39,463; ABB Power T & D Co., Jefferson City, MO

TA-W-39,335; Acordis Cellulosic Fibers, Inc., Axis, AL

TA-W-39,123; Specialty Plasti Products of Tennessee, Inc., Louisville, TN

TA-W-39,443; Kurdziel Industrial Coatings, Wauseon, OH

In the following cases, the investigation revealed that the criteria for eligibility have not been met for the reasons specified.

Increased imports did not contribute importantly to worker separations at the firm.

TA-W-39,611; HR Textron Cadillac Gage, David Brown Hydraulics, Greenville, OH

TA-W-39,249; Ashland Specialty Chemicals Co., Electronic Chemicals Div., Easton, PA

TA-W-39,120; Perfect Fit Industries, Richfield, NC

TA-W-39,125; BBA Nonwoveens-Simpsonville, Inc., Lewisburg, PA

The workers firm does not produce an article as required for certification under Section 222 of the Trade Act of 1974.

TA-W-39,467; Erie County Technical School, Erie, PA

TA-W-39,503; Thomson Financial Research, Ft. Lauderdale, FL

The investigation revealed that criteria (1) has not been met. A significant number or proportion of the workers did not become totally or partially separated from employment as required for certification.

TA-W-39,254; Guerin Logging, Inc., Warm Springs, OR

Affirmative Determinations for Worker Adjustment Assistance

The following certifications have been issued; the date following the company name and location of each determination references the impact date for all workers of such determination.

TA-W-38,820; Stanley Fastening Systems, Hamlet, NC: March 1, 2000.

TA-W-39,508; Duo-Fast Corp., Cleveland, MS: June 5, 2000.

TA-W-39,507; Bess Manufacturing Co., Philadelphia, PA: June 12, 2000.

TA-W-38,817; Galvpro L.P., Jeffersonville, IN: February 21, 2000.

TA-W-39,436; Wiegand Appliance Div., Emerson Electric Co., Vernon, AL: June 1, 2000.

TA-W-39,331; Huntco Steel, Inc., Blytheville, AR: May 16, 2000.

TA-W-39,263; Hoskins Manufacturing Co., Charlevoix Manufacturing Facility, Charlevoix, MI: April 30, 2000.

TA-W-39,260; Allegheny Ludlum Steel, Leechburg, PA: April 26, 2000.

TA-W-39,615; Allegheny Ludlum Steel, Brackenridge, PA: July 16, 2000.

TA-W-39,615; Allegheny Ludlum Steel, Brackenridge, PA: July 16, 2000.

TA-W-39,089; Custom Machine of Great Bend, Inc., Breat Bend, PA: March 29, 2000.

TA-W-39,211; Burlington Industries, Inc., Mount Olive, NC: April 24, 2000.

TA-W-39,179 & A; Rockwell Collins, Passenger Systems, Irvine, CA and Rockwell Collins, Passenger Systems, Pomona, CA: April 19, 2000.

TA-W-38,827; Gina Fashions, Inc., Brooklyn NY: February 20, 2000.

TA-W-39,340; C&D Technologies, Inc., Power Electronics Div., Tucson, AZ: May 17, 2000.

TA-W-39,285; Namanco, Inc., Philadelphia, MS: May 3, 2000.

TA-W-39,134; Williamson-Dickie Manufacturing Co., Eagle Pass #19, Eagle Pass, TX: April 10, 2000.

TA-W-39,075 & A Irving Tanning Co., Hartland, ME and Irving Split Co., Hartland, ME: April 9, 2000.

TA-W-39,027 & A; Mar-Bar Shirt Co., Capital Mercury Apparel, Gassville, AR and Tri-County Shirt Co., Capital Mercury Apparel, Salem, AR: April 12, 2000.

TA-W-38,363 & A; United Technologies Corp., Pratt & Whitney Div., Compression Systems Module Center, Middletown, CT and United Technologies Corp., Pratt & Whitney Div., Turbine Module Center, North Haven, CT: November 3, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of July, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04993; Allegheny Ludlum Steel, Brackenridge, PA

NAFTA-TAA-04857; Garrin Logging Co., Warn Springs, OR

NAFTA-TAA-04975; ABB Power T & D Co., Jefferson City, MO

NAFTA-TAA-04896; Acordis Cellulosic Fibers, Inc., Axis, AL

NAFTA-TAA-04828; Hoskins Manufacturing Co., Charlevoix Manufacturing Facility, Charlevoix, MI

NAFTA-TAA-04928; Ark-Less Electronic Products Corp., Gloucester, MA

NAFTA-TAA-04778; Shasta View Produce, Inc., Malin, OR

NAFTA-TAA-04572; O & E Machine, A Div. of Paper Converting Machine Co., Green Bay, WI

NAFTA-TAA-04787; BBA Nonwovens-Simpsonville, Inc., Lewisburg, PA

The investigation revealed that the criteria for eligibility have not been met for the reasons specified.

The workers firm does not product an article as required for certification under Section 222 of the Trade Act of 1974.

NAFTA-TAA-04970; Erie County Technical School, Erie, PA

Affirmative Determinations NAFTA-TAA

NAFTA-TAA-04959; Coastcast Corp., Rancho Dominguez, CA: May 30, 2000.

NAFTA-TAA-05024; Visteon Systems LLC, Connersvile, IN: June 12, 2000.

NAFTA-TAA-04752; Mar-Bax Shirt Co., Capital Mercury Apparel LTD, Gassville, AR: April 12, 2000

NAFTA-TAA-04784; Williamson-Dickie Manufacturing Co., Eagle pass #19, Eagle Pass, TX: April 10, 2000.

NAFTA-TAA-04973; Imperial Home Decor Group, Finishing Department, Knoxville, TN: May 29, 2000.

NAFTA-TAA-04964 & A; Rockwell Collins, Passenger Systems, Irvine, CA and Rockwell Collins, Passenger Systems, Pomona, CA: May 11, 2000.

NAFTA-TAA-04859; Motion Control Industries, Carlisle Spring Brake Products, Nampa, ID: May 7, 2000.

NAFTA-TAA-04919; Johnson Electric Automotive, Inc., Johnson Electric Automotive Motors, Columbus, MS: May 22, 2000.

NAFTA-TAA-04872; C & D Technologies, Inc., Power Electronics Div., Tucson, AZ: May 8, 2000.

NAFTA-TAA-04611; Stanley Fastening Systems, Single Wire Department, Hamlet, NC: March 1, 2000.

NAFTA-TAA-04876; Jackets USA, Magazine, AR: May 3, 2000.

I hereby certify that the aforementioned determinations were issued during the month of July, 2001. Copies of these determinations are available for inspection in Room C-5311, U.S. Department of Labor, 200 Constitution Avenue, NW., Washington, DC 20210 during normal business hours or will be mailed to persons who write to the above address.

Dated: July 23, 2001.
Edward A. Tomchick,
Director, Division of Trade Adjustment Assistance.

[FR Doc. 01-19608 Filed 8-3-01; 8:45 am]

BILLING CODE 4510-30-M